DEPARTMENT OF VETERANS AFFAIRS

[OMB Control No. 2900-0180]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 7, 2008.

ADDRESSES: Submit written comments on the collection of information through http://www.regulations.gov; or to VA's OMB Desk Officer, OMB Human Resources and Housing Branch, New Executive Office Building, Room 10235, Washington, DC 20503 (202) 395-7316. Please refer to “OMB Control No. 2900-0180” in any correspondence.

FOR FURTHER INFORMATION OR A COPY OF THE SUBMISSION CONTACT: Denise McLamb, Records Management Service (005R1B), Department of Veterans Affairs, 810 Vermont Avenue, NW., Washington, DC 20420, (202) 461-7485, Fax (202) 273-0443 or e-mail: denise.mclamb@mail.va.gov. Please refer to “OMB Control No. 2900-0180.”

SUPPLEMENTARY INFORMATION: Title: Compliance Report of Proprietary Institutions, VA Form 20-4274.

OMB Control Number: 2900-0180.

Type of Review: Extension of a currently approved collection.

Abstract: VA Form 20-4274 is used to determine whether proprietary educational institutions receiving Federal financial assistance comply with applicable civil rights statute and regulations. The collected information is used to identify areas that may indicate, statistically, disparate treatment of minority group members.

An agency may not conduct or sponsor, and a person is not required to respond to a collection of information unless it displays a currently valid OMB control number. The Federal Register Notice with a 60-day comment period soliciting comments on this collection of information was published on September 25, 2007, at pages 54511-54512.

Affected Public: Business or other for-profit, Federal Government.

Estimated Annual Burden: 155 hours.

Estimated Average Burden Per Respondent: 75 minutes.

Frequency of Response: On occasion.

Estimated Number of Respondents: 124.

Dated: November 29, 2007.
By direction of the Secretary.
Denise McLamb,
Program Analyst, Records Management Service.

[FR Doc. E7-23709 Filed 12-5-07; 8:45 am]

BILLING CODE 8320-01-P